DEPARTMENT OF AGRICULTURE

Office of the Secretary

7 CFR Part 2

RIN 0503-AA58

Revision of Delegations of Authority

AGENCY: Office of the Secretary, USDA.

ACTION: Final rule.

SUMMARY: The Secretary of Agriculture is authorized to delegate functions, powers, and duties as the Secretary deems appropriate. This document amends the existing delegations of authority by adding and modifying certain delegations, as explained in the Supplementary Information section below.

DATES: Effective September 29, 2015.

FOR FURTHER INFORMATION CONTACT: Adam J. Hermann, Office of the General Counsel, USDA, 3311-South Bldg., 1400 Independence Avenue SW., Washington, DC 20250, (202) 720-9425, adam.hermann@ogc.usda.gov.

SUPPLEMENTARY INFORMATION: This rule makes several changes to the United States Department of Agriculture's (USDA) delegations of authority in 7 CFR part 2 by adding new delegations and modifying existing delegations.

This rule adds a new delegation of authority from the Secretary to the Chief Financial Officer (CFO) to provide guidance on implementation of prize competition authority in section 24 of the Stevenson-Wydler Technology Innovation Act of 1980 (15 U.S.C. 3719), as added by the America COMPETES Reauthorization Act of 2010 (Pub. L. 111-358). This includes delegated authority to develop guidelines to ensure that judges appointed for prize competitions are fairly balanced and operate in a transparent manner. Delegations of authority are also added to the following General Officers to carry out prize competition authorities in 15 U.S.C. 3719 in their respective areas: Under Secretary for Farm and Foreign Agricultural Services (FFAS); Under Secretary for Rural Development; Under Secretary for Food Safety; Under Secretary for Food, Nutrition, and Consumer Services; Under Secretary for Natural Resources and Environment; Under Secretary for Research, Education, and Economics; Under Secretary for Marketing and Regulatory Programs; Assistant Secretary for Administration; Assistant Secretary for Civil Rights; and the Chief Economist. The authority to approve prize competitions that may result in the award of more than $1,000,000 in cash prizes is reserved to the Secretary. See Secretary's Memorandum 1076-008 (September 26, 2014), available at http://www.ocio.usda.gov/document/secretarys-memorandum-1076-008.

This rule also adds a new delegation of authority from the Secretary to the Assistant Secretary for Civil Rights to award grants and enter into cooperative agreements, as appropriate, under the following authorities for the purpose of conducting outreach efforts in connection with functions delegated to the Assistant Secretary: Grants and cooperative agreements under section 2501(a)(3) of the Food, Agriculture, Conservation, and Trade Act of 1990 (7 U.S.C. 2279(a)(3)); cooperative agreements under section 1472(b) of the National Agricultural Research, Extension, and Teaching Policy Act of 1977 (NARETPA) (7 U.S.C. 3318(b)); grants and cooperative agreements under section 1472(c) of NARETPA (7 U.S.C. 3318(c)); cooperative agreements under section 607(b)(4) of the Rural Development Act of 1972 (7 U.S.C. 2204b(b)(4)); and cooperative agreements under section 714 of the Agriculture, Rural Development, Food and Drug Administration, and Related Agencies Appropriations Act, 2001 (7 U.S.C. 6962a). See Secretary's Memorandum 1076-009 (November 5, 2014), available at http://www.ocio.usda.gov/document/secretarys-memorandum-1076-009.

This rule also revises the existing delegations from the Secretary to the Under Secretary for FFAS, and from the Under Secretary for FFAS to the Administrator of the Farm Service Agency (FSA), to expand the purposes for which cooperative agreements under section 607(b)(4) of the Rural Development Act of 1972 (7 U.S.C. 2204b(b)(4)) may be awarded. That authority authorizes the Secretary to enter into cooperative agreements with other Federal agencies, State and local governments, and any other organization or individual “to improve the coordination and effectiveness of Federal programs, services, and actions affecting rural areas” if the objectives of the agreement “will serve the mutual interest of the parties in rural development activities.” Currently, within the FFAS mission area, this authority is delegated to the Under Secretary for FFAS and the Administrator of FSA only with respect to conservation programs. This rule expands that delegation by providing authority to enter into cooperative agreements of less than $100,000 with nongovernmental organizations or educational institutions, where the agreement is related to outreach and technical assistance for FSA programs. If the cooperative agreement focuses on outreach activities involving beginning, underserved, or veteran producers, coordination with USDA's Office of Advocacy and Outreach is required. See Secretary's Memorandum 1076-010 (January 13, 2015), available at http://www.ocio.usda.gov/document/secretarys-memorandum-1076-010.

This rule also amends the existing delegations from the Secretary to the Under Secretary for FFAS, and from the Under Secretary for FFAS to the Administrator of FSA, to clarify the authority of FSA to implement an Agriculture Priorities and Allocations System, similar to the Department of Commerce's Defense Priorities and Allocations System (15 CFR part 700), to establish procedures for the placement, acceptance, and performance of priority rated contracts and orders and for the allocation of materials, services, and facilities, by adding a specific delegation. Final approval of any allocations orders is reserved to the Secretary. See FSA, Proposed Rule, “Agriculture Priorities and Allocations System,” 76 FR 29084 (May 19, 2011). Minor changes are also being made to the delegations to FSA, the Assistant Secretary for Administration, and the Director of the Office of Homeland Security and Emergency Coordination regarding the Defense Production Act of 1950 (50 U.S.C. App. 2061, et seq.) to make a correction and update the list of Executive Orders.

This rule also amends the delegation of authority from the Under Secretary for Food Safety to the Deputy Under Secretary for Food Safety in 7 CFR 2.51, which gives the Deputy Under Secretary, during the absence or unavailability of the Under Secretary, the authority to perform all the duties and exercise all the powers delegated to the Under Secretary. The delegation is amended to establish the order in which a Deputy Under Secretary may exercise that delegation when the Food Safety mission area has more than one Deputy Under Secretary. The authority will be exercised first by a career Deputy Under Secretary in the order in which he or she has taken that office, and second by a non-career Deputy Under Secretary in the order in which he or she has taken that office.

This rule also adds a specific delegation from the Secretary to the Under Secretary for Research, Education, and Economics to consult with the Foundation for Food and Agriculture Research pursuant to section 7601(d)(1)(B) of the Agricultural Act of 2014 (7 U.S.C. 5939(d)(1)(B)).

This rule includes a technical fix to remove an obsolete delegation from the Secretary to the Assistant Secretary for Congressional Relations in 7 CFR 2.23. That amendment was included in the final rule published at 79 FR 44101, 44109 (July 30, 2014), but that amendment could not be incorporated due to an inaccurate amendatory instruction. This rule includes the correct amendatory instruction.

Finally, this rule corrects a reference to the Chief of the Natural Resources Conservation Service with respect to carrying out certain functions under the Farm Security and Rural Investment Act of 2002 and deletes an obsolete reporting delegation from that Act.

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those acts. This rule contains no information collection or recordkeeping requirements under the Paperwork Reduction Act of 1995 (44 U.S.C. 3501 et seq.).

List of Subjects in 7 CFR Part 2

Authority delegations (Government agencies).

Accordingly, 7 CFR part 2 is amended as follows:

PART 2—DELEGATIONS OF AUTHORITY BY THE SECRETARY OF AGRICULTURE AND GENERAL OFFICERS OF THE DEPARTMENT

1. The authority citation for part 2 continues to read as follows:

Authority: 7 U.S.C. 6912(a)(1); 5 U.S.C. 301; Reorganization Plan No. 2 of 1953, 3 CFR 1949-1953 Comp., p. 1024.

Subpart C—Delegations of Authority to the Deputy Secretary, Under Secretaries, and Assistant Secretaries

2. Amend § 2.16 as follows:

a. Remove paragraph (a)(1)(xxvi)(C);

b. Revise paragraphs (a)(1)(xxviii) and (a)(6);

c. Add paragraphs (a)(10), (b)(1)(iii), and (b)(4).

The revisions and additions read as follows:

§ 2.16 Under Secretary for Farm and Foreign Agricultural Services.

(a) * * *

(1) * * *

(xxviii) Administer cooperative agreements authorized under 7 U.S.C. 2204b(b)(4) as follows:

(A) Administer cooperative agreements with respect to conservation programs;

(B) Administer cooperative agreements, of less than $100,000, with nongovernmental organizations or educational institutions related to outreach and technical assistance for programs carried out by the Farm Service Agency, and, where such cooperative agreements focus on outreach activities to beginning, underserved, or veteran producers, coordinate with the Assistant Secretary for Administration to reduce potential duplication.

* * * * *

(6) Related to defense and emergency preparedness. (i) Administer responsibilities and functions assigned under the Defense Production Act of 1950 (50 U.S.C. App. 2061 et seq.), and title VI of the Robert T. Stafford Disaster Relief and Emergency Assistance Act (42 U.S.C. 5195 et seq.), concerning agricultural production; food processing, storage, and distribution; distribution of farm equipment and fertilizer; rehabilitation and use of food, agricultural, and related agribusiness facilities; CCC resources; farm credit and financial assistance; and foreign agricultural intelligence and other foreign agricultural matters.

(ii) Administer functions delegated by the President to the Secretary under Executive Order 13603, “National Defense Resources Preparedness” (3 CFR, 2012 Comp., p. 225), and Executive Order 12742, “National Security Industrial Responsiveness” (3 CFR, 1991 Comp., p. 309), including administration of an Agriculture Priorities and Allocations System.

* * * * *

(10) Carry out prize competition authorities in section 24 of the Stevenson-Wydler Technology Innovation Act of 1980 (15 U.S.C. 3719) related to functions otherwise delegated to the Under Secretary for Farm and Foreign Agricultural Services, except for authorities delegated to the Chief Financial Officer in § 2.28(a)(29) and authorities reserved to the Secretary in paragraph (b)(4) of this section.

(b) * * *

(1) * * *

(iii) Final approval of allocations orders issued by the Department pursuant to authorities delegated by the President to the Secretary under Executive Order 13603, “National Defense Resources Preparedness” (3 CFR, 2012 Comp., p. 225).

* * * * *

(4) Approval of prize competitions that may result in the award of more than $1,000,000 in cash prizes under section 24(m)(4)(B) of the Stevenson-Wydler Technology Innovation Act of 1980 (15 U.S.C. 3719(m)(4)(B)).

3. Amend § 2.17 by adding paragraphs (a)(31) and (b)(2) to read as follows:

§ 2.17 Under Secretary for Rural Development.

(a) * * *

(31) Carry out prize competition authorities in section 24 of the Stevenson-Wydler Technology Innovation Act of 1980 (15 U.S.C. 3719) related to functions otherwise delegated to the Under Secretary for Rural Development, except for authorities delegated to the Chief Financial Officer in § 2.28(a)(29) and authorities reserved to the Secretary in paragraph (b)(2) of this section.

(b) * * *

(2) Approval of prize competitions that may result in the award of more than $1,000,000 in cash prizes under section 24(m)(4)(B) of the Stevenson-Wydler Technology Innovation Act of 1980 (15 U.S.C. 3719(m)(4)(B)).

4. Amend § 2.18 by adding paragraphs (a)(8) and (b) to read as follows:

§ 2.18 Under Secretary for Food Safety.

(a) * * *

(8) Carry out prize competition authorities in section 24 of the Stevenson-Wydler Technology Innovation Act of 1980 (15 U.S.C. 3719) related to functions otherwise delegated to the Under Secretary for Food Safety, except for authorities delegated to the Chief Financial Officer in § 2.28(a)(29) and authorities reserved to the Secretary in paragraph (b)(1) of this section.

(b) The following authorities are reserved to the Secretary of Agriculture:

(1) Approval of prize competitions that may result in the award of more than $1,000,000 in cash prizes under section 24(m)(4)(B) of the Stevenson-Wydler Technology Innovation Act of 1980 (15 U.S.C. 3719(m)(4)(B)).

(2) [Reserved]

5. Amend § 2.19 by adding paragraphs (a)(6) and (b)(2) to read as follows:

§ 2.19 Under Secretary for Food, Nutrition, and Consumer Services.

(a) * * *

(6) Carry out prize competition authorities in section 24 of the Stevenson-Wydler Technology Innovation Act of 1980 (15 U.S.C. 3719) related to functions otherwise delegated to the Under Secretary for Food, Nutrition, and Consumer Services, except for authorities delegated to the Chief Financial Officer in § 2.28(a)(29) and authorities reserved to the Secretary in paragraph (b)(2) of this section.

(b) * * *

(2) Approval of prize competitions that may result in the award of more than $1,000,000 in cash prizes under section 24(m)(4)(B) of the Stevenson-Wydler Technology Innovation Act of 1980 (15 U.S.C. 3719(m)(4)(B)).

6. Amend § 2.20 as follows:

a. Remove paragraph (a)(3)(xvi)(C); and

b. Add paragraphs (a)(10) and (b)(2).

The additions read as follows:

§ 2.20 Under Secretary for Natural Resources and Environment.

(a) * * *

(10) Carry out prize competition authorities in section 24 of the Stevenson-Wydler Technology Innovation Act of 1980 (15 U.S.C. 3719) related to functions otherwise delegated to the Under Secretary for Natural Resources and Environment, except for authorities delegated to the Chief Financial Officer in § 2.28(a)(29) and authorities reserved to the Secretary in paragraph (b)(2) of this section.

(b) * * *

(2) Approval of prize competitions that may result in the award of more than $1,000,000 in cash prizes under section 24(m)(4)(B) of the Stevenson-Wydler Technology Innovation Act of 1980 (15 U.S.C. 3719(m)(4)(B)).

7. Amend § 2.21 by adding paragraphs (a)(1)(ccxiii), (a)(13), and (b)(3) to read as follows:

§ 2.21 Under Secretary for Research, Education, and Economics.

(a) * * *

(1) * * *

(ccxiii) Consult with the Foundation for Food and Agriculture Research regarding the identification of existing and proposed Federal intramural and extramural research and development programs relating to the purposes of the Foundation and the coordination of Foundation activities with those programs for the purpose of minimizing duplication of existing efforts and avoiding conflicts (7 U.S.C. 5939(d)(1)(B)).

* * * * *

(13) Carry out prize competition authorities in section 24 of the Stevenson-Wydler Technology Innovation Act of 1980 (15 U.S.C. 3719) related to functions otherwise delegated to the Under Secretary for Research, Education, and Economics, except for authorities delegated to the Chief Financial Officer in § 2.28(a)(29) and authorities reserved to the Secretary in paragraph (b)(3) of this section.

(b) * * *

(3) Approval of prize competitions that may result in the award of more than $1,000,000 in cash prizes under section 24(m)(4)(B) of the Stevenson-Wydler Technology Innovation Act of 1980 (15 U.S.C. 3719(m)(4)(B)).

8. Amend § 2.22 by adding paragraphs (a)(11) and (b)(3) to read as follows:

§ 2.22 Under Secretary for Marketing and Regulatory Programs.

(a) * * *

(11) Carry out prize competition authorities in section 24 of the Stevenson-Wydler Technology Innovation Act of 1980 (15 U.S.C. 3719) related to functions otherwise delegated to the Under Secretary for Marketing and Regulatory Programs, except for authorities delegated to the Chief Financial Officer in § 2.28(a)(29) and authorities reserved to the Secretary in paragraph (b)(3) of this section.

(b) * * *

(3) Approval of prize competitions that may result in the award of more than $1,000,000 in cash prizes under section 24(m)(4)(B) of the Stevenson-Wydler Technology Innovation Act of 1980 (15 U.S.C. 3719(m)(4)(B)).

§ 2.23 [Amended]

9. Amend § 2.23 by removing paragraph (a)(2)(v).

10. Amend § 2.24 as follows:

a. Revise paragraph (a)(8)(ii)(A); and

b. Add paragraphs (a)(13) and (b)(3).

The revision and additions read as follows:

§ 2.24 Assistant Secretary for Administration.

(a) * * *

(8) * * *

(ii) * * *

(A) Coordinate the delegations and assignments made to the Department under the Defense Production Act of 1950, 50 U.S.C. App. 2061, et seq.; the Robert T. Stafford Disaster Relief and Emergency Assistance Act, 42 U.S.C. 5121, et seq.; and by Executive Orders 12148, “Federal Emergency Management” (3 CFR, 1979 Comp., p. 412), 12656, “Assignment of Emergency Preparedness Responsibilities” (3 CFR, 1988 Comp., p. 585), and 13603, “National Defense Resources Preparedness” (3 CFR, 2012 Comp., p. 225), or any successor to these Executive Orders, to ensure that the Department has sufficient capabilities to respond to any occurrence, including natural disaster, military attack, technological emergency, or any all hazards incident.

* * * * *

(13) Other general. (i) Carry out prize competition authorities in section 24 of the Stevenson-Wydler Technology Innovation Act of 1980 (15 U.S.C. 3719) related to functions otherwise delegated to the Assistant Secretary for Administration, except for authorities delegated to the Chief Financial Officer in § 2.28(a)(29) and authorities reserved to the Secretary in paragraph (b)(3) of this section.

(ii) [Reserved]

(b) * * *

(3) Other general. (i) Approval of prize competitions that may result in the award of more than $1,000,000 in cash prizes under section 24(m)(4)(B) of the Stevenson-Wydler Technology Innovation Act of 1980 (15 U.S.C. 3719(m)(4)(B)).

(ii) [Reserved]

11. Amend § 2.25 as follows:

a. Revise paragraph (a)(23); and

b. Add paragraphs (a)(24), (a)(25), and (b).

The revision and additions read as follows:

§ 2.25 Assistant Secretary for Civil Rights.

(a) * * *

(23) Redelegate, as appropriate, any authority delegated under paragraphs (a)(1) through (22) of this section to general officers of the Department and heads of Departmental agencies.

(24) Award grants and enter into cooperative agreements, as appropriate, under the following authorities only for the purpose of conducting outreach efforts in connection with the duties and powers delegated to the Assistant Secretary for Civil Rights under this section:

(i) Grants and cooperative agreements under section 2501(a)(3) of the Food, Agriculture, Conservation, and Trade Act of 1990 (7 U.S.C. 2279(a)(3));

(ii) Cooperative agreements under section 1472(b) of the National Agricultural Research, Extension, and Teaching Policy Act of 1977 (7 U.S.C. 3318(b));

(iii) Grants and cooperative agreements under section 1472(c) of the National Agricultural Research, Extension, and Teaching Policy Act of 1977 (7 U.S.C. 3318(c));

(iv) Cooperative agreements under section 607(b)(4) of the Rural Development Act of 1972 (7 U.S.C. 2204b(b)(4)); and

(v) Cooperative agreements under section 714 of the Agriculture, Rural Development, Food and Drug Administration, and Related Agencies Appropriations Act, 2001 (7 U.S.C. 6962a).

(25) Carry out prize competition authorities in section 24 of the Stevenson-Wydler Technology Innovation Act of 1980 (15 U.S.C. 3719) related to functions otherwise delegated to the Assistant Secretary for Civil Rights, except for authorities delegated to the Chief Financial Officer in § 2.28(a)(29) and authorities reserved to the Secretary in paragraph (b)(1) of this section.

(b) The following authorities are reserved to the Secretary of Agriculture:

(1) Approval of prize competitions that may result in the award of more than $1,000,000 in cash prizes under section 24(m)(4)(B) of the Stevenson-Wydler Technology Innovation Act of 1980 (15 U.S.C. 3719(m)(4)(B)).

(2) [Reserved]

Subpart D—Delegations of Authority to Other General Officers and Agency Heads

12. Amend § 2.28 as follows:

a. Revise paragraph (a)(28); and

b. Add paragraphs (a)(29) and (b).

The revision and additions read as follows:

§ 2.28 Chief Financial Officer.

(a) * * *

(28) Redelegate, as appropriate, any authority delegated under paragraphs (a)(1) through (27) of this section to general officers of the Department and heads of Departmental agencies.

(29) Provide Departmentwide guidance on implementation of prize competition authority in section 24 of the Stevenson-Wydler Technology Innovation Act of 1980 (15 U.S.C. 3719); develop guidelines to ensure that judges appointed for prize competitions under that authority are fairly balanced and operate in a transparent manner (15 U.S.C. 3719(k)(3)).

(b) The following authorities are reserved to the Secretary of Agriculture:

(1) Approval of prize competitions that may result in the award of more than $1,000,000 in cash prizes under section 24(m)(4)(B) of the Stevenson-Wydler Technology Innovation Act of 1980 (15 U.S.C. 3719(m)(4)(B)).

(2) [Reserved]

13. Amend § 2.29 by adding paragraphs (a)(15) and (b) to read as follows:

§ 2.29 Chief Economist.

(a) * * *

(15) Carry out prize competition authorities in section 24 of the Stevenson-Wydler Technology Innovation Act of 1980 (15 U.S.C. 3719) related to functions otherwise delegated to the Chief Economist, except for authorities delegated to the Chief Financial Officer in § 2.28(a)(29) and authorities reserved to the Secretary in paragraph (b)(1) of this section.

(b) The following authorities are reserved to the Secretary of Agriculture:

(1) Approval of prize competitions that may result in the award of more than $1,000,000 in cash prizes under section 24(m)(4)(B) of the Stevenson-Wydler Technology Innovation Act of 1980 (15 U.S.C. 3719(m)(4)(B)).

(2) [Reserved]

Subpart F—Delegations of Authority by the Under Secretary for Farm and Foreign Agricultural Services

14. Amend § 2.42 as follows:

a. Revise paragraph (a)(5);

b. Remove paragraph (a)(46)(iii); and

c. Revise paragraph (a)(50).

The revisions read as follows:

§ 2.42 Administrator, Farm Service Agency.

(a) * * *

(5) Related to defense and emergency preparedness. (i) Administer responsibilities and functions assigned under the Defense Production Act of 1950 (50 U.S.C. App. 2061 et seq.), and title VI of the Robert T. Stafford Disaster Relief and Emergency Assistance Act (42 U.S.C. 5195 et seq.), concerning agricultural production; food processing, storage, and distribution; distribution of farm equipment and fertilizer; rehabilitation and use of food, agricultural, and related agribusiness facilities; CCC resources; and farm credit and financial assistance.

(ii) Administer functions delegated by the President to the Secretary under Executive Order 13603, “National Defense Resources Preparedness” (3 CFR, 2012 Comp., p. 225), and Executive Order 12742, “National Security Industrial Responsiveness” (3 CFR, 1991 Comp., p. 309), including administration of an Agriculture Priorities and Allocations System.

* * * * *

(50) Administer cooperative agreements authorized under 7 U.S.C. 2204b(b)(4) as follows:

(i) Administer cooperative agreements with respect to conservation programs;

(ii) Administer cooperative agreements, of less than $100,000, with nongovernmental organizations or educational institutions related to outreach and technical assistance for programs carried out by the Farm Service Agency, and, where such cooperative agreements focus on outreach activities to beginning, underserved, or veteran producers, coordinate with the Director, Office of Advocacy and Outreach to reduce potential duplication.

* * * * *

Subpart H—Delegations of Authority by the Under Secretary for Food Safety

15. Revise § 2.51 to read as follows:

§ 2.51 Deputy Under Secretary for Food Safety.

Pursuant to § 2.18, and subject to policy guidance and direction by the Under Secretary, the following delegation of authority is made by the Under Secretary for Food Safety to the Deputy Under Secretary for Food Safety, to be exercised only during the absence or unavailability of the Under Secretary: Perform all the duties and exercise all the powers which are now or which may hereafter be delegated to the Under Secretary for Food Safety: Provided, that this authority shall be exercised first by a career Deputy Under Secretary in the order in which he or she has taken office as Deputy Under Secretary, and second by a non-career Deputy Under Secretary in the order in which he or she has taken office as Deputy Under Secretary.

Subpart J—Delegations of Authority by the Under Secretary for Natural Resources and Environment

16. Amend § 2.61 as follows:

a. Revise the introductory text of paragraph (a)(25);

b. Add “and” after the semicolon in paragraph (a)(25)(i);

c. Remove “; and” and add a period in its place in paragraph (a)(25)(ii); and

d. Remove paragraph (a)(25)(iii).

The revision reads as follows:

§ 2.61 Chief, Natural Resources Conservation Service.

(a) * * *

(25) Administer the following provisions of the Farm Security and Rural Investment Act of 2002 with respect to functions otherwise delegated to the Chief, Natural Resources Conservation Service:

* * * * *

Subpart P—Delegations of Authority by the Assistant Secretary for Administration

17. Amend § 2.95(b)(1)(i) to read as follows:

§ 2.95 Director, Office of Homeland Security and Emergency Coordination.

* * * * *

(b) * * *

(1) * * *

(i) Coordinate the delegations and assignments made to the Department under the Defense Production Act of 1950, 50 U.S.C. App. 2061, et seq.; the Robert T. Stafford Disaster Relief and Emergency Assistance Act, 42 U.S.C. 5121, et seq.; and by Executive Orders 12148, “Federal Emergency Management” (3 CFR, 1979 Comp., p. 412), 12656, “Assignment of Emergency Preparedness Responsibilities” (3 CFR, 1988 Comp., p. 585), and 13603, “National Defense Resources Preparedness” (3 CFR, 2012 Comp., p. 225), or any successor to these Executive Orders, to ensure that the Department has sufficient capabilities to respond to any occurrence, including natural disaster, military attack, technological emergency, or any all hazards incident.

* * * * *

Dated: September 18, 2015.
Thomas J. Vilsack,
Secretary of Agriculture.

[FR Doc. 2015-24361 Filed 9-28-15; 8:45 am]

BILLING CODE 3410-90-P